DEPARTMENT OF JUSTICE

Notice of Lodging of Consent Decree Under the Clean Air Act

Notice is hereby given that on July 23, 2009, a proposed Consent Decree (“Decree”) in United States v. Colorado Interstate Gas Co., Civil Action No. 2:09-CV-0649-TS, was lodged with the United States District Court for the District of Utah, Central Division.

The Consent Decree requires Colorado Interstate Gas Co. to (1) Achieve and maintain compliance with the Clean Air Act (“CAA”) and its implementing regulations; (2) pay a civil penalty and emission fees totaling $1,020,000; and (3) fund for one year the operation of two ambient air monitoring stations on the Uintah and Ouray Indian Reservation.

The United States filed a Complaint with the Consent Decree pursuant to Section 113(b) of the Clean Air Act, 42 U.S.C. 7413(b), alleging Clean Air Act violations at a natural gas compressor station owned and operated by CIG in Uintah County, Utah, within the exterior boundaries of the Uintah and Ouray Indian Reservation. The Consent Decree would resolve the claims alleged in the Complaint. The ultimate entry of the Consent Decree by the District Court of Utah would end this litigation.

The Department of Justice will receive for a period of thirty (30) days from the date of this publication comments relating to the Decree. Comments should be addressed to the Assistant Attorney General, Environment and Natural Resources Division, and either e-mailed to the pubcomment-ees.enrd@usdoj.gov or mailed to P.O. Box 7611, U.S. Department of Justice, Washington, DC 20044-7611, and should refer to Civil Action No. 2:09-CV-0649-TS, D.J. Ref. No. 90-5-2-1-07660/2.

The Decree may be examined at the Office of the United States Attorney, District of Utah, 185 South State Street, Suite 300, Salt Lake City, Utah 84111. It also may be examined at the offices of U.S. EPA Region 8, 1595 Wynkoop Street, Denver, Colorado 80202. During the public comment period, the Decree may be examined on the following Department of Justice Web site, http://www.usdoj.gov/enrd/Consent_Decrees.html.

A copy of the Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost) payable to the U.S. Treasury or, if by e-mail or fax, forward a check in that amount to the Consent Decree Library at the stated address.

Maureen Katz,
Assistant Chief, Environmental Enforcement Section, Environment and Natural Resources Division.

[FR Doc. E9-18460 Filed 7-31-09; 8:45 am]

BILLING CODE 4410-15-P